DEPARTMENT OF ENERGY

Federal Energy Regulatory Commission

Combined Notice of Filings #1

Take notice that the Commission received the following electric rate filings:

Docket Numbers: ER17-349-002.

Applicants: Transource Maryland, LLC, Transource Pennsylvania, LLC, PJM Interconnection, L.L.C.

Description: Compliance filing: Compliance filing per the Commission's 11/1/2018 order re: DEA, SA No. 4579 to be effective 11/2/2016.

Filed Date: 12/3/18.

Accession Number: 20181203-5169.

Comments Due: 5 p.m. ET 12/24/18.

Docket Numbers: ER17-1561-002.

Applicants: New York Independent System Operator, Inc.

Description: Compliance filing: Order No. 831 offer cap compliance to set effective date to be effective 12/18/2018.

Filed Date: 12/4/18.

Accession Number: 20181204-5038.

Comments Due: 5 p.m. ET 12/26/18.

Docket Numbers: ER18-463-002.

Applicants: Midcontinent Independent System Operator, Inc., Ameren Transmission Company of Illinois.

Description: Compliance filing: 2018-12-03_ATXI Revisions to Attachment O & MM for Mark Twain Incentive to be effective 2/14/2018.

Filed Date: 12/3/18.

Accession Number: 20181203-5185.

Comments Due: 5 p.m. ET 12/24/18.

Docket Numbers: ER18-2253-001.

Applicants: Martins Creek, LLC.

Description: Compliance filing: Reactive Service Rate Schedule Compliance Filings to be effective 12/3/2018.

Filed Date: 12/4/18.

Accession Number: 20181204-5107.

Comments Due: 5 p.m. ET 12/26/18.

Docket Numbers: ER18-2254-001.

Applicants: MC Project Company LLC.

Description: Compliance filing: Reactive Service Rate Schedule Compliance Filings to be effective 12/3/2018.

Filed Date: 12/4/18.

Accession Number: 20181204-5111.

Comments Due: 5 p.m. ET 12/26/18.

Docket Numbers: ER18-2496-001.

Applicants: PJM Interconnection, L.L.C.

Description: Compliance filing: Compliance Filing to the Commission's 11/29/2018 re: Rate Schedule No. 48 to be effective 12/1/2018.

Filed Date: 12/4/18.

Accession Number: 20181204-5123.

Comments Due: 5 p.m. ET 12/26/18.

Docket Numbers: ER19-29-004.

Applicants: NorthWestern Corporation.

Description: Compliance filing: Compliance Filing to Migrate Great Falls NITSA to Tariff ID 41 (Part 1 of 2) to be effective 10/8/2018.

Filed Date: 12/3/18.

Accession Number: 20181203-5190.

Comments Due: 5 p.m. ET 12/24/18.

Docket Numbers: ER19-29-005.

Applicants: NorthWestern Corporation.

Description: Compliance filing: Compliance Filing to Migrate Great Falls NITSA to Tariff ID 41 (Part 2 of 2) to be effective 11/1/2018.

Filed Date: 12/3/18.

Accession Number: 20181203-5243.

Comments Due: 5 p.m. ET 12/24/18.

Docket Numbers: ER19-314-001.

Applicants: Bridgewater Power Company, L.P.

Description: Tariff Amendment: Supplement to Bridgewater Power Company L.P. MBR Tariff Application to be effective 1/8/2019.

Filed Date: 12/3/18.

Accession Number: 20181203-5114.

Comments Due: 5 p.m. ET 12/24/18.

Docket Numbers: ER19-381-001.

Applicants: Power Holding LLC.

Description: Tariff Amendment: Amendment to Application of Market Based Rate to be effective 11/21/2018.

Filed Date: 12/4/18.

Accession Number: 20181204-5080.

Comments Due: 5 p.m. ET 12/26/18.

Docket Numbers: ER19-466-000.

Applicants: Golden Spread Electric Cooperative, Inc.

Description: § 205(d) Rate Filing: Amended and Restated WPC—Rider F and REC to be effective 1/1/2019.

Filed Date: 12/3/18.

Accession Number: 20181203-5249.

Comments Due: 5 p.m. ET 12/24/18.

Docket Numbers: ER19-467-000.

Applicants: New York Independent System Operator, Inc.

Description: Compliance filing: NYISO Order 841 compliance revisions re: Electrice Storage Resources (ESRs) to be effective 12/31/9998.

Filed Date: 12/3/18.

Accession Number: 20181203-5276.

Comments Due: 5 p.m. ET 12/24/18.

Docket Numbers: ER19-468-000.

Applicants: California Independent System Operator Corporation.

Description: Compliance filing: 2018-12-03 Order No. 841 Compliance to be effective 12/3/2018.

Filed Date: 12/3/18.

Accession Number: 20181203-5278.

Comments Due: 5 p.m. ET 12/24/18.

Docket Numbers: ER19-469-000.

Applicants: PJM Interconnection, L.L.C.

Description: Compliance filing: Compliance Filing re Order No. 841 ESR Markets and Operations Proposal to be effective 12/3/2019.

Filed Date: 12/3/18.

Accession Number: 20181203-5296.

Comments Due: 5 p.m. ET 12/24/18.

Docket Numbers: ER19-470-000.

Applicants: ISO New England Inc., New England Power Pool Participants Committee.

Description: Compliance filing: Revisions to ISO-NE Tariff in Compliance with FERC Order No. 841 to be effective 12/3/2019.

Filed Date: 12/3/18.

Accession Number: 20181203-5299.

Comments Due: 5 p.m. ET 12/24/18.

Docket Numbers: ER19-471-000.

Applicants: Wisconsin Power and Light Company.

Description: § 205(d) Rate Filing: Amendment to WPL Wholesale Formula Rate Changes to be effective 12/31/2018.

Filed Date: 12/4/18.

Accession Number: 20181204-5000.

Comments Due: 5 p.m. ET 12/26/18.

Docket Numbers: ER19-472-000.

Applicants: Interstate Power and Light Company.

Description: § 205(d) Rate Filing: Amendment to IPL Wholesale Formula Rate Application to be effective 12/31/2018.

Filed Date: 12/4/18.

Accession Number: 20181204-5001.

Comments Due: 5 p.m. ET 12/26/18.

Docket Numbers: ER19-473-000.

Applicants: Southwest Power Pool, Inc.

Description: § 205(d) Rate Filing: 3497 States Edge Wind I Holdings Facilities Construction Agr to be effective 2/2/2019.

Filed Date: 12/4/18.

Accession Number: 20181204-5007.

Comments Due: 5 p.m. ET 12/26/18.

Docket Numbers: ER19-474-000.

Applicants: ORNI 18 LLC.

Description: § 205(d) Rate Filing: Revisions to Market-Based Rate Tariff (ORNI 18 LLC) to be effective 2/3/2019.

Filed Date: 12/4/18.

Accession Number: 20181204-5032.

Comments Due: 5 p.m. ET 12/26/18.

Docket Numbers: ER19-475-000.

Applicants: USG Oregon LLC.

Description: § 205(d) Rate Filing: Revisions to Market-Based Rate Tariff (USG Oregon LLC) to be effective 2/3/2019.

Filed Date: 12/4/18.

Accession Number: 20181204-5035.

Comments Due: 5 p.m. ET 12/26/18.

Docket Numbers: ER19-476-000.

Applicants: Mammoth One LLC.

Description: § 205(d) Rate Filing: Revisions to Market-Based Rate Tariff (Mammoth One LLC) to be effective 2/3/2019.

Filed Date: 12/4/18.

Accession Number: 20181204-5036.

Comments Due: 5 p.m. ET 12/26/18.

Docket Numbers: ER19-477-000.

Applicants: Southwest Power Pool, Inc.

Description: Petition for Tariff Waiver of Southwest Power Pool, Inc.

Filed Date: 12/4/18.

Accession Number: 20181204-5039.

Comments Due: 5 p.m. ET 12/26/18.

Docket Numbers: ER19-478-000.

Applicants: FirstEnergy Solutions Corp.

Description: § 205(d) Rate Filing: Amendment to Reactive Service Rate Schedule FERC No. 1 to be effective 12/31/9998.

Filed Date: 12/4/18.

Accession Number: 20181204-5040.

Comments Due: 5 p.m. ET 12/26/18.

Docket Numbers: ER19-479-000.

Applicants: Southwest Power Pool, Inc.

Description: § 205(d) Rate Filing: 2881R7 City of Chanute, KS NITSA NOA to be effective 6/1/2018.

Filed Date: 12/4/18.

Accession Number: 20181204-5059.

Comments Due: 5 p.m. ET 12/26/18.

Docket Numbers: ER19-480-000.

Applicants: Alabama Power Company.

Description: Tariff Cancellation: Greenway Renewable Power LGIA Termination Filing to be effective 12/4/2018.

Filed Date: 12/4/18.

Accession Number: 20181204-5074.

Comments Due: 5 p.m. ET 12/26/18.

Docket Numbers: ER19-481-000.

Applicants: LMBE Project Company LLC.

Description: Baseline eTariff Filing: Notice of Succession and Revisons to Market-Based Rate Tariff to be effective 12/4/2018.

Filed Date: 12/4/18.

Accession Number: 20181204-5075.

Comments Due: 5 p.m. ET 12/26/18.

Docket Numbers: ER19-482-000.

Applicants: LMBE Project Company LLC.

Description: § 205(d) Rate Filing: Notice of Succession and Revisions to Reactive Service Rate Schedule to be effective 12/4/2018.

Filed Date: 12/4/18.

Accession Number: 20181204-5090.

Comments Due: 5 p.m. ET 12/26/18.

Docket Numbers: ER19-483-000.

Applicants: PJM Interconnection, L.L.C.

Description: Tariff Cancellation: Transmital Letter for Notice of Cancellation of WMPA AD1-071 SA No 5075 to be effective 1/7/2019.

Filed Date: 12/4/18.

Accession Number: 20181204-5097.

Comments Due: 5 p.m. ET 12/26/18.

Docket Numbers: ER19-484-000.

Applicants: Midcontinent Independent System Operator, Inc.

Description: § 205(d) Rate Filing: 2018-12-04_SA 3218 Crescent Wind—Consumers Energy FCA (J538) to be effective 11/20/2018.

Filed Date: 12/4/18.

Accession Number: 20181204-5102.

Comments Due: 5 p.m. ET 12/26/18.

Docket Numbers: ER19-485-000.

Applicants: Vermillion Power, L.L.C.

Description: Initial rate filing: Reactive Power Tariff filing to be effective 12/31/9998.

Filed Date: 12/4/18.

Accession Number: 20181204-5110.

Comments Due: 5 p.m. ET 12/26/18.

Take notice that the Commission received the following qualifying facility filings:

Docket Numbers: QF19-499-000.

Applicants: Berry Petroleum Company, LLC.

Description: Form 556 of Berry Petroleum Company, LLC [McKittrick].

Filed Date: 11/30/18.

Accession Number: 20181130-5427.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2018.
Nathaniel J. Davis, Sr.,
Deputy Secretary.

[FR Doc. 2018-26814 Filed 12-11-18; 8:45 am]

BILLING CODE 6717-01-P